DEPARTMENT OF COMMERCE

National Oceanic and Atmospheric Administration

[I.D. 050304E]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Trawl Individual Quota Enforcement Group (TIQ Enforcement Group) will hold a working meeting which is open to the public.

DATES: The TIQ Enforcement Group working meeting will begin Tuesday, May 25, 2004 at 8:30 a.m. and may go into the evening until business for the day is completed. The meeting will reconvene from 8 a.m. and continue until business for the day is complete on Wednesday, March 26, 2004.

ADDRESSES: The meeting will be held at: NMFS, 501 W. Ocean Blvd., Suite 4200, Long Beach, CA 90802; telephone: (562)980-4050.

Council address: Pacific Fishery Management Council, 7700 NE Ambassador Place, Suite 200, Portland, OR 97220-1384.

FOR FURTHER INFORMATION CONTACT: Mr. Jim Seger, Staff Officer (Economist), telephone: (503) 820-2280.

SUPPLEMENTARY INFORMATION: The purpose of the TIQ Enforcement Group meeting is to conduct preliminary scoping on the types of enforcement programs that would be necessary for a groundfish trawl individual fishing quota (IFQ) program and related enforcement needs for information from IFQ and landings tracking and monitoring systems.

Although non-emergency issues not contained in the TIQ Enforcement Group meeting agenda may come before the group for discussion, those issues may not be the subject of formal committee action during these meetings. TIQ Enforcement Group action will be restricted to those issues specifically listed in this notice and to any issues arising after publication of this notice requiring emergency action under Section 305(c) of the Magnuson-Stevens Fishery Conservation and Management Act, provided the public has been notified of the group's intent to take final action to address the emergency.

Special Accommodations

The meeting is physically accessible to people with disabilities. Requests for sign language interpretation or other auxiliary aids should be directed to Ms. Carolyn Porter at (503) 820-2280 at least 5 days prior to the meeting date.

Dated: May 4, 2004.
Alan D. Risenhoover,
Acting Director, Office of Sustainable Fisheries, National Marine Fisheries Service.

[FR Doc. E4-1034 Filed 5-6-04; 8:45 am]

BILLING CODE 3510-22-S